DEPARTMENT OF DEFENSE

Office of the Inspector General; Privacy Act of 1974; System of Records

AGENCY: Office of the Inspector General, DoD.

ACTION: Notice to amend systems of records.

SUMMARY: The Office of the Inspector General, DoD, is amending a system of records notice in its existing inventory of record systems subject to the Privacy Act of 1974, (5 U.S.C. 552a), as amended.

DATES: This proposed action will be effective without further notice on August 22, 2003, unless comments are received which result in a contrary determination.

ADDRESSES: Send comments to Office of the Inspector General, Department of Defense, 400 Army Navy Drive, Room 223, Arlington, VA 22202-4704.

FOR FURTHER INFORMATION CONTACT: Mr. Darryl R. Aaron at (703) 604-9785.

SUPPLEMENTARY INFORMATION: The Office of the Inspector General, DoD, systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: July 16, 2003.
Patricia L. Toppings,
Alternate OSD Federal Register Liaison Officer, Department of Defense.

CIG-11

SYSTEM NAME:

Budget Information Tracking System (BITS) (February 22, 1993, 58 FR 10213).

Changes

* * * * *

SYSTEM LOCATION:

Delete entry and replace with ‘Office of the Chief of Staff, Office of the Comptroller, Office of the Inspector General of the Department of Defense, 400 Army Navy Drive, Arlington, VA 22202-4704.’

* * * * *

Categories of records in the system:

Delete from entry ‘and Blanket Travel, employee training.’ Move the records currently listed under Purpose, to this entry. Those records are ‘individual's name, Social Security Number grade/rank and financial transaction document number'.

Authority for maintenance of the system:

Delete entry and replace with ‘Pub.L. 95-452, the Inspector General Act of 1978, as amended; 5 U.S.C. 301, Departmental Regulations; DoD 7000.14-R, DoD Financial Management Regulation; DoD Directive 5106.1, Inspector General of the Department of Defense, Organization and Functions Guide; OIG DoD Instruction 7200.1, Budget and Fund Control; OIG DoD Instruction 7250.13, Official Representation Funds; and E.O. 9397 (SSN).’

Purpose(s):

Delete entry and replace with ‘Information is used in determining current year execution and future budgetary requirements for the OIG as follows:

a. Tracking temporary duty travel costs.

b. Tracking Permanent Change of Station costs.

c. Maintain spreadsheets maintained by Human Resource Training/purchase cardholders.

d. Tracking cash award costs.’

* * * * *

Retrievability:

Records are retrieved by the individual's financial transaction document number. A specified data element or a combination thereof contained in this system of records are used for accessing information.

Retention and disposal:

Delete entry and replace with ‘Records are maintained for current fiscal year. Destroy 6 years and 3 months after the close of the fiscal year.’

* * * * *

CIG-11

System name:

Budget Information Tracking System (BITS).

System location:

Office of the Chief of Staff, Office of the Comptroller, Office of the Inspector General of the Department of Defense, 400 Army Navy Drive, Arlington, VA 22202-4704.

Categories of individuals covered by the system:

All Office of the Inspector General (OIG) employees who participate in OIG Travel, Permanent Change of Station, Awards, and Training.

Categories of records in the system:

Individual's name, Social Security Number, grade and or rank, financial transaction document number, and the cost records of the OIG employees who have been approved for Temporary Duty; Permanent Change of Station (PCS); and an employee cash award.

Authority for maintenance of the system:

Pub. L. 95-452, the Inspector General Act of 1978, as amended; 5 U.S.C. 301, Departmental Regulations; DoD 7000.14-R, DoD Financial Management Regulation; DoD Directive 5106.1, Inspector General of the Department of Defense, Organization and Functions Guide; OIG DoD Instruction 7200.1, Budget and Fund Control; OIG DoD Instruction 7250.13, Official Representation Funds; and E.O. 9397 (SSN).

Purpose(s):

Information is used in determining current year execution and future budgetary requirements for the OIG as follows:

a. Tracking temporary duty travel costs.

b. Tracking Permanent Change of Station costs.

c. Maintain spreadsheets maintained by Human Resources Training/purchase cardholders.

d. Tracking cash award costs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OIG's compilation of systems of records notices also apply to this system.

Policies and practices for storing, retrieving, accessing, retaining, and disposing of records in the system:

Storage:

Paper records in file folders and or binders and on electronic storage media or a combination thereof.

Retrievability:

Records are retrieved by the individual's financial transaction document number. A specified data element or a combination thereof contained in this system of records are used for accessing information.

Safeguards:

Access to the system is protected/restricted through the use of assigned user identification/passwords for entry into system modules.

Retention and disposal:

Records are maintained for current fiscal year. Destroy 6 years and 3 months after the close of the fiscal year.

System manager(s) and address:

Comptroller, Office of the Chief of Staff, Office of the Inspector General of the Department of Defense, 400 Army Navy Drive, Arlington, VA 22202-4704.

Notification procedure:

Individuals seeking to determine whether this system of records contains information about themselves should address written inquiries to the Chief, Freedom of Information Act/Privacy Act Office, 400 Army Navy Drive, Arlington, VA 22202-4704.

The request should contain the full name, address, and Social Security Number of the individual.

Record access procedures:

Individuals seeking access to records about themselves contained in this system of records should address written inquiries to the Chief, Freedom of Information Act/Privacy Act Office, 400 Army Navy Drive, Arlington, VA 22202-4704.

The request should contain the full name, address, and Social Security Number of the individual.

Contesting record procedures:

The OIG's rules for accessing records and for contesting contents and appealing initial agency determinations are published in 32 CFR part 312 or may be obtained from the system manager.

Record source categories

Data maintained in the system is obtained directly from the individual on the following forms:

a. Request to Temporary Duty Travel Form, provided to the Travel Section with information obtained from the individual traveler;

b. Request for Permanent Change of Station Form, provided by the Personnel and Security Directorate and Travel Section with information obtained from the individual;

c. Request for Training Form, provided by the Training Officer within each segment of the Office of the Assistant Inspector General with information obtained from the individual; and

d. Incentive Awards Nomination and Action Form, provided by the Personnel and Security Directorate with information obtained from an individual's supervisor and personnel records. To the extent that a follow-up to resolve discrepancies is required, information is collected directly from the individual or the appropriate office within the Office of the Inspector General on Department of Defense (DD) Forms 1610 and 1614, Standard Form 182, and IG Form 1400.430-3.

Exemptions claimed for the system:

None.

[FR Doc. 03-18648 Filed 7-22-03; 8:45 am]

BILLING CODE 5001-08-U